ENVIRONMENTAL PROTECTION AGENCY

40 CFR Part 52

[PA106-4113b; FRL-6959-7]

Approval and Promulgation of Air Quality Implementation Plans; Pennsylvania; Approval of VOC and NOx RACT Determinations for Merck and Company, Inc

AGENCY: Environmental Protection Agency (EPA).

ACTION: Proposed rule.

SUMMARY: EPA proposes to approve the State Implementation Plan (SIP) revision submitted by the Commonwealth of Pennsylvania for the purpose of establishing and requiring reasonably available control technology (RACT) for a facility of Merck and Company, Inc. located in Montgomery County. This facility is a major source of volatile organic compounds (VOC) and nitrogen oxides ( NOX). In the Final Rules section of this Federal Register, EPA is approving the Commonwealth's SIP submittal as a direct final rule without prior proposal because the Agency views this as a noncontroversial submittal and anticipates no adverse comments. A detailed rationale for the approval is set forth in the direct final rule. If no adverse comments are received in response to this action, no further activity is contemplated. If EPA receives adverse comments, the direct final rule will be withdrawn and all public comments received will be addressed in a subsequent final rule based on this proposed rule. EPA will not institute a second comment period. Any parties interested in commenting on this action should do so at this time.

DATES: Comments must be received in writing by May 18, 2001.

ADDRESSES: Written comments should be addressed to Makeba Morris, Chief, Permits and Technical Assessment Branch, Air Protection Division, Mailcode 3AP11, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; Bureau of Air Quality Control, P.O. Box 8468, 400 Market Street, Harrisburg, Pennsylvania 17105.

FOR FURTHER INFORMATION CONTACT: Melik A. Spain, (215) 814-2299, at the EPA Region III address above, or by e-mail at spain.melik@epa.gov.

SUPPLEMENTARY INFORMATION: For further information, please see the information provided in the direct final action, with the same title, located in the “Rules and Regulations” section of this Federal Register publication.

Dated: March 19, 2001.
William C. Early,
Acting Regional Administrator, Region III.

[FR Doc. 01-9481 Filed 4-17-01; 8:45 am]

BILLING CODE 6560-50-U